DEPARTMENT OF TRANSPORTATION

Federal Aviation Administration

Notice of Opportunity for Public Comment on a Land Use Change From Aeronautical to Non-Aeronautical Use for Revenue Generation of 8.5 Acres of Airport Land at Southbridge Municipal Airport in Southbridge, MA

AGENCY: Federal Aviation Administration (FAA), DOT.

ACTION: Request for public comments.

SUMMARY: Notice is being given that the FAA is considering a request from the Town of Southbridge, MA, to change the land use from aeronautical to non-aeronautical use for 8.5 acres of land for revenue generation. The parcel is located southwest of the runway and terminal building and will be used for a solar farm. The land lease rate is based on an appraisal and the annual lease will be placed in the airport's operations and maintenance account.

DATES: Comments must be received on or before August 23, 2018.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on July 16, 2018.
Gail B. Lattrell,
Director (Acting), ANE-600.

[FR Doc. 2018-15831 Filed 7-23-18; 8:45 am]

BILLING CODE P